DEPARTMENT OF THE INTERIOR

Office of the Secretary

Statement of Findings: Shivwits Band of the Paiute Indian Tribe of Utah Water Rights Settlement Act

AGENCY: Office of the Secretary, Interior

ACTION: Notice of statement of findings in accordance with Public Law 106-263.

SUMMARY: The Secretary of the Interior is causing this notice of Statement of Findings to be published as required by section 14 of the Shivwits Band of the Paiute Indian Tribe of Utah Water Rights Settlement Act (Settlement Act), Pub. L. 106-263, 114 Stat. 737, 746-47. The publication of this notice causes the waiver and release of certain claims to become effective as required to implement the Settlement.

DATES: In accordance with section 14 of the Settlement Act, the waiver and release of claims described in section 9(b) of the Settlement Act are effective on November 26, 2003.

ADDRESSES: Address all comments concerning this notice to Ms. Catherine Wilson, Shivwits Band of the Paiute Indian Tribe of Utah Water Rights Settlement Act Implementation Team Chairperson, Bureau of Indian Affairs, Western Regional Office, 400 North 5th Street, MS-420, Phoenix, Arizona, 85004.

FOR FURTHER INFORMATION CONTACT: Ms. Catherine Wilson, 602-379-6789.

SUPPLEMENTARY INFORMATION: The purposes of the Settlement Act are:

(1) To achieve a fair, equitable, and final settlement of all claims to water rights in the Santa Clara River for the Shivwits Band, and the United States for the benefit of the Shivwits Band;

(2) To promote the self-determination and economic self-sufficiency of the Shivwits Band, in part by providing funds to the Shivwits Band for its use in developing a viable reservation economy;

(3) To approve, ratify, and confirm the St. George Water Reuse Project Agreement, the Santa Clara Project Agreement, and the Settlement Agreement, and the Shivwits Water Right described therein;

(4) To authorize the Secretary of the Interior to execute the St. George Water Reuse Project Agreement, the Santa Clara Project Agreement, and the Settlement Agreement, and to take such actions as are necessary to implement these agreements in a manner consistent with the Settlement Act; and

(5) To authorize the appropriation of funds necessary for implementation of the St. George Water Reuse Project Agreement, the Santa Clara Project Agreement, and the Settlement Agreement.

Statement of Findings

As required by section 14 of the Settlement Act, I find as follows:

1. The funds authorized by sections 11(b) and 11(c) of the Settlement Act have been appropriated and deposited into the Shivwits Band Trust Fund;

2. The funds authorized by section 10(f) of the Settlement Act have been appropriated;

3. The St. George Water Reuse Project Agreement has been modified, to the extent it was in conflict with the Settlement Act, and is effective and enforceable according to its terms;

4. The Santa Clara Project Agreement has been modified, to the extent it was in conflict with the Settlement Act, and is effective and enforceable according to its terms;

5. The Settlement Agreement has been modified, to the extent it was in conflict with the Settlement Act, and is effective and enforceable according to its terms;

6. The State Engineer of Utah has taken all actions and approved all applications necessary to implement the provisions of the St. George Water Reuse Agreement, the Santa Clara Project Agreement, and the Settlement Agreement, from which no further appeals may be taken; and

7. The District Court of the Fifth Judicial District in Washington County, Utah, has entered a judgment and decree confirming the Shivwits Water Right in the Virgin River Adjudication pursuant to Utah Rule of Civil Procedure 54(b), that confirms the Shivwits Water Right and is final as to all parties to the Santa Clara Division of the Virgin River Adjudication and from which no further appeals may be taken, which the United States and Utah find is consistent in all material aspects with the Settlement Agreement and with the proposed judgment and decree agreed to by the parties to the Settlement Agreement.

Dated: November 21, 2003.
Gale A. Norton,
Secretary.

[FR Doc. 03-29583 Filed 11-25-03; 8:45 am]

BILLING CODE 4310-01-M